RAILROAD RETIREMENT BOARD

Public Availability of Railroad Retirement Board FY 2010 Service Contract Inventory

AGENCY: Railroad Retirement Board (RRB).

ACTION: Notice of Public Availability of FY 2010 Service Contract Inventories.

SUMMARY: In accordance with Section 743 of Division C of the Consolidated Appropriations Act of 2010 (Pub. L. 111-117), Railroad Retirement Board is publishing this notice to advise the public of the availability of the FY 2010 Service Contract Inventory. This inventory provides information on service contract actions over $25,000 that were made in FY 2010. The information is organized by function to show how contracted resources are distributed throughout the agency. The inventory has been developed in accordance with guidance issued on November 5, 2010 by the Office of Management and Budget's Office of Federal Procurement Policy (OFPP). OFPP's guidance is available at http://www.whitehouse.gov/sites/default/files/omb/procurement/memo/service-contract-inventories-guidance-11052010.pdf.

Railroad Retirement Board has posted its inventory and a summary of the inventory on the Railroad Retirement Board homepage at the following links: http://www.rrb.gov/general/plan_rpt_inv.asp#inv.

FOR FURTHER INFORMATION CONTACT: Questions regarding the service contract inventory should be directed to Paul T. Ahern, Supervisory Contract Specialist, in the Division of Acquisition Management, Railroad Retirement Board, at (312) 751-7130 or Paul.Ahern@rrb.gov.

Dated: January 26, 2011.
By Authority of the Board.
Beatrice Ezerski,
Secretary to the Board.

[FR Doc. 2011-2165 Filed 2-2-11; 8:45 am]

BILLING CODE 7905-01-M